DEPARTMENT OF DEFENSE

Defense Acquisition Regulations System

Feasibility of a Reciprocal Defense Procurement Memorandum of Understanding With Poland

AGENCY: Defense Acquisition Regulations System, Department of Defense (DoD).

ACTION: Request for industry feedback regarding experience in public (particularly defense) procurements conducted by the Republic of Poland.

SUMMARY: DoD is soliciting information from U.S. industry that has had experience participating in public defense procurements conducted by or on behalf of Poland's Ministry of National Defense or Armed Forces. DoD is considering the possibility of negotiating a Reciprocal Defense Procurement Memorandum of Understanding (RDP MOU) with Poland. The contemplated MOU would involve reciprocal waivers of buy-national laws by each country. This would mean that Poland would be added to the list of “qualifying countries” in the Defense Federal Acquisition Regulation Supplement (DFARS), and that offers of products of Poland would be exempt from the U.S. Buy American Act and Balance of Payments Program policy that would otherwise require DoD to add 50 percent to the price of the foreign products when evaluating offers. This also means that U.S. products should be exempt from any analogous “Buy Polish” law or policy applicable to Poland's defense procurements. DoD is interested in industry comments relating to the transparency, integrity, and general fairness of Poland's public (defense) procurement processes. DoD is also interested in comments relating to the degree of reciprocity that exists between the United States and Poland when it comes to the openness of defense procurements to offers of products of the other country.

DATES: Comments, which will be treated in a confidential manner, must be received by July 16, 2008.

ADDRESSES: You may submit comments to: Office of the Director, Defense Procurement, Acquisition Policy, and Strategic Sourcing, ATTN: OUSD (AT&L) DPAP (CPIC), 3060 Defense Pentagon, Washington, DC 20301-3060; or by e-mail to barbara.glotfelty@osd.mil.

FOR FURTHER INFORMATION CONTACT: Ms. Barbara Glotfelty, telephone 703-697-9351.

SUPPLEMENTARY INFORMATION: The RDP MOUs that DoD has entered into with 21 countries are signed by the Secretary of Defense and his counterpart. The purpose of these MOUs is to promote rationalization, standardization, and interoperability of defense equipment with allies and friendly governments. It provides a framework for ongoing communication regarding market access and procurement matters that affect effective defense cooperation. Based on the RDP MOU, each country affords the other certain benefits on a reciprocal basis, consistent with national laws and regulations. For 19 of the 21 MOU countries, these include evaluation of offers without applying price differentials under “Buy National” laws (e.g., the Buy American Act), and making provision for duty-free entry of goods delivered under covered contracts.

Poland is a North Atlantic Treaty Organization Ally of the United States.

The countries with which DoD has RDP MOUs are identified in DFARS 225.872-1. Should an RDP MOU be concluded with Poland, Poland would be added to the list of qualifying countries. If, based on and in conjunction with the RDP MOU, DoD determines that it would be inconsistent with the public interest to apply the restrictions of the Buy American Act to the acquisition of Polish defense equipment and supplies, Poland would be listed in DFARS 225.872-1(a). If a determination will be made on a purchase-by-purchase basis, Poland would be listed in DFARS 225.872-1(b).

RDP MOUs generally include language by which the parties agree that their procurements will be conducted in accordance with certain implementing procedures. These procedures include publication of notices of proposed purchases; the content and availability of solicitations for proposed purchases; notification to each unsuccessful offeror; feedback, upon request, to unsuccessful offerors concerning the reasons they were not allowed to participate in a procurement or were not awarded a contract; and providing for the hearing and review of complaints arising in connection with any phase of the procurement process to ensure that, to the extent possible, complaints are equitably and expeditiously resolved between an offeror and the procuring activity.

While DoD is evaluating Poland's laws and regulations in this area, DoD would benefit from knowledge of U.S. industry experience in participating in Poland's public defense procurements. DoD is, therefore, asking U.S. firms that have participated or attempted to participate in procurements by or on behalf of Poland's Ministry of National Defense or Armed Forces to provide input as to whether the procurements were conducted in accordance with published procedures with fairness and due process and, if not, the nature of the problems encountered. All comments received will be treated as confidential submissions.

Michele P. Peterson,
Editor, Defense Acquisition Regulations System.

[FR Doc. E8-13458 Filed 6-13-08; 8:45 am]

BILLING CODE 5001-08-P